DEPARTMENT OF AGRICULTURE

Forest Service

Kern and Tulare Counties Resource Advisory Committee

AGENCY: Forest Service, USDA.

ACTION: Notice of meeting.

SUMMARY: The Kern and Tulare Counties Resource Advisory Committee (RAC) will meet in Porterville and Bakersfield, California. The committee is meeting as authorized under the Secure Rural Schools and Community Self-Determination Act (Pub. L. 110-343) and in compliance with the Federal Advisory Committee Act. The purpose of the meetings is to establish and implement a process to accept projects and determine which projects to recommend to the Forest Supervisor for funding under Title II of the Act.

DATES: The meetings will be held on June 30, 2010, July 22, 2010, and August 26, 2010. All meetings will begin at 5 p.m.

ADDRESSES: The June and August meetings will be held at the Sequoia National Forest Headquarters, 1839 South Newcomb Street, Porterville, California. The July meeting will be held at the Doubletree Inn, 3100 Camino Del Rio Court, Bakersfield, California. Written comments should be sent to Priscilla Summers, Western Divide Ranger District, 32588 Highway 190, Springville, California 93265. Comments may also be sent via e-mail to psummers@fs.fed.us, or via facsimile to 559-539-2067.

All comments, including names and addresses when provided, are placed in the record and are available for public inspection and copying. The public may inspect comments received at Western Divide Ranger District, 32588 Highway 190, Springville, CA 93265. Visitors are encouraged to call ahead to 559-539-2607 to facilitate entry into the building.

FOR FURTHER INFORMATION CONTACT: Mary Chislock, RAC coordinator, Sequoia National Forest Headquarters, 1839 South Newcomb Street, Porterville, CA; (559) 784-1500; or e-mail: mchislock@fs.fed.us.

Individuals who use telecommunication devices for the deaf (TDD) may call 559-781-6650 between 8:00 a.m. and 4:30 p.m., Pacific Daylight Time, Monday through Friday.

SUPPLEMENTARY INFORMATION: The meetings are open to the public. Committee discussions are limited to Forest Service staff and committee members. The following business will be conducted: (1) Introductions of all committee members, replacement members, and Forest Service personnel; (2) selection of a chairperson by the committee members; (3) By-laws; (4) develop a procedure to receive, process, and recommend projects for funding; and (5) receive public comment. Persons who wish to bring related matters to the attention of the Committee may file written statements with the Committee staff before or after the meeting.

Dated: June 1, 2010.
Tina J. Terrell,
Forest Supervisor.

[FR Doc. 2010-13648 Filed 6-7-10; 8:45 am]

BILLING CODE 3410-11-P